DEPARTMENT OF TRANSPORTATION

National Highway Traffic Safety Administration

[U.S. DOT Docket Number NHTSA-2016-0027]

Reports, Forms, and Record Keeping Requirements

AGENCY: National Highway Traffic Safety Administration (NHTSA), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register notice (81 FR 13874) with a 60-day comment period soliciting comments on the proposed information collection for the agency's existing collection of vehicle safety information (OMB Control Number 2127-0629) was published on March 15, 2016. No comments were received.

DATES: Comments must be received on or before October 19, 2016.

ADDRESSES: Send comments regarding the burden estimate, including suggestions for reducing the burden, to the Office of Management and Budget, Attention: Desk Officer for the Office of the Secretary of Transportation, 725 17th Street NW., Washington, DC 20503.

FOR FURTHER INFORMATION CONTACT: Complete copies of each request for collection of information may be obtained at no charge from Johanna Lowrie, U.S. Department of Transportation, NHTSA, Room W43-410, 1200 New Jersey Ave. SE., Washington, DC 20590. Ms. Lowrie's telephone number is (202) 366-5269. Please identify the relevant collection of information by referring to its OMB Control Number.

SUPPLEMENTARY INFORMATION:

National Highway Traffic Safety Administration

Title: Obtaining Vehicle Information for the General Public.

OMB Control Number: 2127-0629.

Type of Request: Information Collection Renewal.

Affected Public: Manufacturers that sell motor vehicles that have a Gross Vehicle Weight Rating (GVWR) of 10,000 pounds or less in the United States.

Abstract: NHTSA's mission is to save lives, prevent injury, and reduce motor vehicle crashes. Consumer information programs are an important tool for improving vehicle safety through market forces. For over 30 years, under its New Car Assessment Program, NHTSA has been providing consumers with vehicle safety information such as frontal and side crash results, crash avoidance performance test results, rollover propensity, and the availability of a wide array of safety features provided on each vehicle model. In addition, the agency has been using this safety feature information when responding to consumer inquiries and analyzing rulemaking petitions that requested the agency to mandate certain safety features.

The information collected annually by the agency includes the following:

• Vehicle make, model, body style, certification type, projected sales volume, availability date, etc.,

• Crashworthiness features (i.e., adjustable upper belt anchorages, seat belt pretensioners, load limiters, etc.),

• Crash avoidance features (i.e., lane departure warning, forward collision warning, blind spot detection, crash imminent braking, dynamic brake support systems, etc.),

• Automatic crash notification systems,

• Event data recorders,

• Automatic door locks (ADL),

• Anti-theft devices,

• Static Stability Factor (SSF) rating information,

• Lower Anchors and Tethers for Children (LATCH) restraint system, and

• Side air bag information that would include whether the side air bags meet the requirements from the Technical Working Group (TWG) on Out-of-Position occupants.

NHTSA has another information collection to obtain data related to motor vehicle compliance with the agency's Federal motor vehicle safety standards. Although the consumer information collection data is distinct and unique from the compliance data, respondents to both collections are the same. Thus, the consumer information collection is closely coordinated with the compliance collection to enable responders to assemble the data more efficiently. The burden is further made easier by sending out electronic files to the respondents in which the data is entered and electronically returned to the agency.

The consumer information collected will be used on the agency's Web site (www.safercar.gov), in the “Purchasing with Safety in Mind: What to look for when buying a new vehicle” and “Buying a Safer Car for Child Passengers” brochures, in other consumer publications, as well as for internal agency analyses and responses to consumer inquiries.

Estimated Number of Respondents: 21.

Estimated Total Annual Burden: 800 hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Comments to OMB are most effective if OMB receives them within 30 days of publication.

Authority: 44 U.S.C. 3506(c); delegation of authority at 49 CFR 1.50.

Issued on: September 8, 2016.
Raymond R. Posten,
Associate Administrator for Rulemaking.

[FR Doc. 2016-22066 Filed 9-16-16; 8:45 am]

BILLING CODE 4910-59-P